DEPARTMENT OF COMMERCE

National Oceanic and Atmospheric Administration

Environmental Statements; Notice of Intent: Washington Coastal Zone Management Program; Meetings

AGENCY: Office of Ocean and Coastal Resource Management (OCRM), National Oceanic and Atmospheric Administration (NOAA), Department of Commerce (DOC).

ACTION: Notice of intent to prepare an environmental impact statement. Notice to conduct public scoping meetings in Olympia, Seattle and Mount Vernon, WA on the proposed incorporation of the revised Shoreline Master Program (SMP) Guidelines Rule (Chapter 173-26) as an amendment to the federally approved Washington Coastal Zone Management Program (WCZMP).

SUMMARY: In accordance with section 306 of the Coastal Zone Management Act of 1972, as amended (CZMA), OCRM is considering whether to approve Washington's proposed amendment to incorporate the revised WA SMP Guidelines Rule as an amendment to its federally approved WCZMP. In accordance with the National Environmental Policy Act, OCRM will conduct scoping meetings as an opportunity for federal and state agencies, local governments and their citizenry, and representatives of non-governmental organizations, American Indian tribes, or any other interest persons to identify to OCRM what impacts or issues should be addressed in the Environment Impact Statement (EIS).

DATES:

Tuesday, January 18, 2005 at 7 p.m., Washington Department of Ecology in the Auditorium, 300 Desmond Drive, Lacey, WA 98503. (Visitor parking available.)

Wednesday, January 19, 2005, at 7 p.m., Pinnacle Room—3rd Floor in The Mountaineers Building, 300 Third Avenue West, Seattle, WA 98119, (Parking lots and some street parking available with time constraints.)

Thursday, January 20, 2005, at 7 p.m. Aqua Room in Skagit County PUD, 1415 Freeway Drive, Mount Vernon, WA 98273, (Visitor parking available.)

Interested persons are welcome to submit suggestions or comments on the scope or content of the proposed EIS by attending any of the above meetings or provide written comments to the designated official below. Written comments will be accepted until February 25, 2005.

SUPPLEMENTARY INFORMATION: The WCZMP was the first in the nation to receive federal approval under the CZMA in 1976. The basis for the WCZMP participation in the federal coastal zone management program was the implementation of the Washington Shoreline Management Act of 1971 (SMA). The SMA set in motion the designation of shorelines of statewide significance, policy objectives and guidelines with respect to managing shoreline uses, a process for local governments to develop Shoreline Master Programs (SMPs) that would meet the objectives of the Act, and a management process to include the Shorelines Hearing Board that would serve as an administrative appeals body. From 1976 to the present, the WCZMP has received federal CZMA funds to supplement their state funds to implement the WCZMP.

In 1995, the Washington State Legislature directed the Department of Ecology (Ecology) to periodically review and adopt guidelines consistent with SMA policies and to integrate shorelines with the provisions of the Growth Management Act critical areas ordinances. Ecology has spent the better part of 6 years developing revised guidance for updating SMPs. The new guidelines recognize advancements in science regarding shoreline ecological processes, changes in laws, changes in the character of shoreline development and innovations in shorelines and growth management practices. More information can be found on the Washington Department of Ecology Web Site at: http://www.ecy.wa.gov/programs/sea/SMA/index.html.

OCRM has been requested by the State of Washington to incorporate the revised SMP Guidelines Rule into the federally approved WCZMP. OCRM has determined that this is a major federal action and will therefore develop an environmental impact statement to identify what environmental consequences may be associated with this proposed action. The State of WA adopted the revised SMP Guidelines Rule in December 2003. OCRM's consideration of Washington's proposed amendment to its already approved Federal coastal zone management program does not affect state law or regulations.

FOR FURTHER INFORMATION CONTACT: Comments and questions should be made to: Masi Okasaki, Assistant Regional Manager, Coastal Programs Division (N/ORM3), Office of Ocean and Coastal Resource Management, NOS, NOAA, 1305 East-West Highway, Silver Spring, Maryland, 20910, phone (301) 713-3155 extension 185, e-mail wa.guidelines.noaa.gov.

Dated: December 28, 2004.
Eldon Hout,
Director, Office of Ocean and Coastal Resource Management, National Ocean Service, National Oceanic and Atmospheric Administration.
(Federal Domestic Assistance Catalog 11.419 Coastal Zone Management Program Administration)

[FR Doc. 05-130 Filed 1-4-05; 8:45 am]

BILLING CODE 3510-08-M